DEPARTMENT OF THE INTERIOR

Bureau of Indian Affairs

[167A2100DD/AAKC001030/A0A501010.999900 253G]

Notice of Intent To Prepare a Programmatic Environmental Impact Statement for the Proposed Integrated Resource Management Plan for the Nez Perce Reservation in North Central Idaho

AGENCY: Bureau of Indian Affairs, Interior.

ACTION: Notice of intent.

SUMMARY: This notice advises the public that the Bureau of Indian Affairs (BIA) as lead agency intends to prepare a programmatic environmental impact statement (PEIS) and conduct public scoping meetings to evaluate potential environmental impacts of the proposed Integrated Resource Management Plan (IRMP) for the Nez Perce Reservation located in north central Idaho. The PEIS will be prepared in accordance with the requirements of the National Environmental Policy Act (NEPA).

DATES: The dates and locations of public scoping meetings will be published in the Lewiston Tribune, Moscow-Pullman Daily News, Ta'c Tito'oqan, Clearwater Tribune, Idaho County Free Press, Lewis County Herald, The Clearwater Progress, and Cottonwood Chronicle. Additional information will also be posted on the Tribe's Web site at www.nezperce.org. Written comments to this notice must be received by February 5, 2016.

ADDRESSES: The public is invited to submit written comments to this Notice. Written comments may be submitted by mail, email, hand carry, or fax to: Ms. Anna Schmidt, Wildlife Biologist, BIA Northwest Regional Office, 911 NE. 11th Avenue, Portland, OR 97232-4169, Phone: (503) 231-6808, Fax: (503) 231-6774, Email: anna.schmidt@bia.gov.

FOR FURTHER INFORMATION CONTACT: Ms. Anna Schmidt at (503) 231-6808 or anna.schmidt@bia.gov.

SUPPLEMENTARY INFORMATION: The proposed action is the preparation of an IRMP for the Nez Perce Reservation and BIA approval of long-term natural and cultural resource planning goals and objectives for the Nez Perce Reservation. The Tribe may use the Programmatic EIS (PEIS) for tiered, project-specific environmental assessments to cover specific actions as the IRMP is implemented. The Tribe has managed its natural and cultural resources under the goals and objectives of various department-specific plans under the direction of the Nez Perce Tribal Executive Committee. The PEIS will consider a proposed strategy in the IRMP to provide a framework for all Nez Perce Tribal agencies to manage natural and cultural resources within the Nez Perce Reservation.

It is anticipated that the PEIS will assess four management strategy alternatives and a No Action Alternative. Under the Maximum Resource Development Alternative, the Tribe's resource management strategy would be to maximally promote human land uses, growth, and the use of natural and cultural resources to generate revenue for the Tribe. Under the Development Emphasis Alternative, the Tribe's resource management strategy would be to emphasize human land use, growth, and the use of natural and cultural resources to generate revenue for the Tribe, while ensuring a moderate level of natural and cultural resource conservation, protection, and enhancement. Under the Conservation Emphasis Alternative, the Tribe's resource management strategy would be to emphasize natural and cultural resource conservation, protection, and enhancement, while ensuring a moderate level of human land use, growth, and the use of natural and cultural resources to generate revenue for the Tribe. Under the Maximum Conservation Alternative, the Tribe's resource management strategy would be to maximally promote natural and cultural resource conservation, protection, and enhancement. Under the No Action Alternative, the existing resource management strategies will be assessed. Additional strategies or alternatives or variations of those proposed above may be developed as a result of public scoping. Significant issues to be covered during the scoping process may include, but will not be limited to, air quality, geology and soils, surface and groundwater resources, wildlife habitat, threatened and endangered species, cultural resources, socioeconomic conditions, land use, aesthetics, and Indian trust resources.

Directions for Submitting Public Comments: Please include your name, return address, and the caption “ `Programmatic EIS, Nez Perce Reservation IRMP' ” on the first page of any written comments you submit. You may also submit comments at the public scoping meetings. The public scoping meetings will be held to seek comments from all parties concerning the use of natural and cultural resources on the Nez Perce Reservation, concerns regarding impacts to those resources, and preferred management strategies. The meetings will be held at various Nez Perce Reservation communities, and notices will be published in the Lewiston Tribune, Moscow-Pullman Daily News, Ta'c Tito'oqan, Clearwater Tribune, Idaho County Free Press, Lewis County Herald, the Clearwater Progress, and Cottonwood Chronicle. Additional information will also be posted at the Tribe's Web site at www.nezperce.org.

Public Comment Availability: Comments, including names and addresses of respondents, will be available for public review at the BIA address shown in the ADDRESSES section of this notice, during regular business hours, Monday through Friday, except holidays. Before including your address, phone number, email address, or other personal identifying information in your comment, you should be aware that your entire comment—including your personal identifying information—may be made publicly available at any time. While you can ask us in your comment to withhold your personal identifying information from public review, we cannot guarantee that we will be able to do so.

Authority: This notice is published in accordance with sections 1503.1 of the Council on Environmental Quality Regulations (40 CFR parts 1500 through 1508) and Sec. 46.305 of the Department of the Interior Regulations (43 CFR part 46), implementing the procedural requirements of NEPA, as amended (42 U.5.C. 4321 et seq.), and is in the exercise of authority delegated to the Assistant Secretary—Indian Affairs, by part 209 of the Departmental Manual.

Dated: November 30, 2015.
Kevin K. Washburn,
Assistant Secretary—Indian Affairs.

[FR Doc. 2015-30805 Filed 12-4-15; 8:45 am]

BILLING CODE 4337-15-P